Title 3—

The President

Proclamation 9101 of April 7, 2014

National Equal Pay Day, 2014

By the President of the United States of America

A Proclamation

Throughout our Nation's history, brave women have torn down barriers so their daughters might one day enjoy the same rights, same chances, and same freedoms as their sons. Despite tremendous progress, too many women are entering the workforce to find their mothers' and grandmothers' victories undermined by the unrealized promise of equal pay for equal work. On National Equal Pay Day, we mark how far into the new year women would have to work to earn the same as men did in the previous year, and we recommit to making equal pay a reality.

Women make up nearly half of our Nation's workforce and are primary breadwinners in 4 in 10 American households with children under age 18. Yet from boardrooms to classrooms to factory floors, their talent and hard work are not reflected on the payroll. Today, women still make only 77 cents to every man's dollar, and the pay gap is even wider for women of color. Over her lifetime, the average American woman can expect to lose hundreds of thousands of dollars to the earnings gap, a significant blow to both women and their families. In an increasingly competitive global marketplace, we must use all of America's talent to its fullest potential—because when women succeed, America succeeds.

More than half a century after President John F. Kennedy signed the Equal Pay Act, my Administration remains devoted to improving our equal pay laws and closing the pay gap between women and men. From signing the Lilly Ledbetter Fair Pay Act to establishing the Equal Pay Task Force, I have strengthened pay discrimination protections and cracked down on violations of equal pay laws. And I will continue to push the Congress to step up and pass the Paycheck Fairness Act, because this fight will not be over until our sisters, our mothers, and our daughters can earn a living equal to their efforts.

The time has passed for us to recognize that what determines success should not be our gender, but rather our talent, our drive, and the strength of our contributions. So, today, let us breathe new life into our founding ideals. Let us march toward a day when, in the land of liberty and opportunity, there are no limits on our daughters' dreams and no glass ceilings on the value of their work.

NOW, THEREFORE, I, BARACK OBAMA, President of the United States of America, by virtue of the authority vested in me by the Constitution and the laws of the United States, do hereby proclaim April 8, 2014, as National Equal Pay Day. I call upon all Americans to recognize the full value of women's skills and their significant contributions to the labor force, acknowledge the injustice of wage inequality, and join efforts to achieve equal pay.

IN WITNESS WHEREOF, I have hereunto set my hand this seventh day of April, in the year of our Lord two thousand fourteen, and of the Independence of the United States of America the two hundred and thirty-eighth.

[FR Doc. 2014-08289

Filed 4-9-14; 11:15 am]

Billing code 3295-F4